DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on February 23-24, 2009. The meeting will be held in Room NG3.202 at the T. Boone Biomedical Building, University of Texas Southwestern, 6001 Forest Park Road, Dallas, Texas. On February 23, the session will convene at 8 a.m. and adjourn at 4:30 p.m. On February 24, the session will convene at 8 a.m. and adjourn at 1 p.m. All sessions will be open to the public.

The purpose of the Committee is to provide advice and make recommendations to the Secretary of Veterans Affairs on proposed research studies, research plans and research strategies relating to the health consequences of military service in the Southwest Asia theater of operations during the Gulf War.

At the February 23-24 meeting, the Committee will review VA program activities related to Gulf War veterans' illnesses and updates on relevant scientific research published since the last Committee meeting. Additionally, there will be presentations and discussion of white matter disorders affecting Gulf War veterans and preliminary results from the University of Texas Southwestern Gulf War Illnesses Research Program.

Additionally, public comments will be received at 4:15 p.m. on February 23 and at 12:30 p.m. on February 24. Public comments will be limited to five minutes each. A sign-in sheet will be available each day. Individuals who speak are invited to submit 1-2 page summaries of their comments at the time of the meeting for inclusion in the official meeting record. Members of the public may also submit written statements for the Committee's review to Dr. Roberta White, RAC-Gulf War Veterans' Illnesses (T-GW), U.S. Department of Veterans Affairs, 116B-4 150 S. Huntington Ave., Boston, MA 02130.

Any member of the public seeking additional information should contact Dr. William Goldberg, Designated Federal Officer, at (202) 461-1667, or Dr. White, Scientific Director, at (617) 278-4517.

Dated: February 3, 2009.
By Direction of the Secretary.
E. Philip Riggin,
Committee Management Officer.

[FR Doc. E9-2586 Filed 2-5-09; 8:45 am]

BILLING CODE 8320-01-P